DEPARTMENT OF HOUSING AND URBAN DEVELOPMENT

[Docket No. FR-6451-N-02]

Announcement of the Housing Counseling Federal Advisory Committee; Notice of Public Meeting

AGENCY: Office of the Assistant Secretary for Housing—Federal Housing Commissioner, Department of Housing and Urban Development (HUD).

ACTION: Notice of Housing Counseling Federal Advisory Committee public meeting.

SUMMARY: This gives notice of a Housing Counseling Federal Advisory Committee (HCFAC) meeting and sets forth the proposed agenda. The HCFAC meeting will be held on Thursday, June 13, 2024. The meeting is open to the public and is accessible to individuals with disabilities.

DATES: The virtual meeting will be held on Thursday, June 13, 2024, starting at 1:00 p.m. Eastern Daylight Time (EDT), via ZOOM.

FOR FURTHER INFORMATION CONTACT: Virginia F. Holman, Housing Program Technical Specialist, Office of Housing Counseling, U.S. Department of Housing and Urban Development, 600 East Broad Street, Richmond, VA 23219; telephone number 540-894-7790 (this is not a toll-free number); email virginia.f.holman@hud.gov.

HUD welcomes and is prepared to receive calls from individuals who are deaf or hard of hearing, as well as individuals with speech and communication disabilities. To learn more about how to make an accessible telephone call, please visit: https://www.fcc.gov/consumers/guides/telecommunications-relay-service-trs. Individuals may also email HCFACCommittee@hud.gov.

SUPPLEMENTARY INFORMATION: HUD is convening the virtual meeting of the HCFAC on Thursday June 13, 2024, from 1:00 p.m. to 4:30 p.m. EDT. The meeting will be held via ZOOM. This meeting notice is provided in accordance with the Federal Advisory Committee Act, 5 U.S.C. 1009(a)(2).

Draft Agenda—Housing Counseling Federal Advisory Committee Meeting

Thursday, June 13, 2024

The Housing Counselors' Role in Educating Consumers About Real Estate Commissions & Augmenting the Delivery of Housing Counseling in Tribal Communities.

I. Welcome

II. Presentations and HCFAC Member Discussion

III. Public Comment

IV. Next Steps

V. Adjourn

Registration

The public is invited to attend this half-day (3.5 hours) virtual meeting, using ZOOM. Advance registration is required to attend. To register, please visit https://us06web.zoom.us/webinar/register/WN_9PkLZ88JRa2wcTgyXjeRcA#/registration to complete your registration. If you have any questions about registration, please email HCFACCommittee@ajantaconsulting.com. After submitting the registration form, you will receive registration confirmation with the meeting link and passcode needed to attend. Closed captioning will be available during the ZOOM meeting.

Comments

Members of the public will have an opportunity to provide oral and written comments relative to agenda topics for the HCFAC's consideration. Your registration confirmation will also explain the process for speaking. Available time for public comments will be limited to ensure pertinent HCFAC business is completed. The amount of time allotted to each person will be limited to two minutes and will be allocated on a first-come first-served basis by HUD. Written comments can be provided on the registration form no later than June 12, 2024. Please note, written comments submitted will not be read during the meeting. The HCFAC will not respond to individual written or oral statements during the meeting; but it will take all public comments into account in its deliberations.

Meeting Records

Records and documents discussed during the meeting as well as other information about the work of the HCFAC, will be available for public viewing as they become available on hud.gov at: https://www.hud.gov/program_offices/housing/sfh/hcc/housing_counseling; and at https://www.facadatabase.gov/FACA/s/login/?ec=302&inst=3d&startURL=%2FFACA%2Fapex%2FFACAPublicCommittee%3Fid%3Da10t0000001gzvQAAQ.

Information on the Committee is also available on HUD Exchange at https://www.hudexchange.info/programs/housing-counseling/federal-advisory-committee.

Julia R. Gordon,
Assistant Secretary for Housing, FHA Commissioner.

[FR Doc. 2024-08647 Filed 4-22-24; 8:45 am]

BILLING CODE 4210-67-P